SMALL BUSINESS ADMINISTRATION

[Declaration of Disaster #3594]

State of Wisconsin (Amendment #1)

In accordance with a notice received from the Department of Homeland Security—Federal Emergency Management Agency—effective July 2, 2004, the above numbered declaration is hereby amended to include Adams, Brown, Calumet, Chippewa, Clark, Crawford, Dane, Eau Claire, Grant, Green, Green Lake, Iowa, Jackson, Juneau, LaCrosse, Lafayette, Marathon, Marquette, Milwaukee, Monroe, Outagamie, Portage, Racine, Richland, Rock, Sauk, Shawano, Sheboygan, Taylor, Trempealeau, Vernon, Walworth, Washington, Waukesha, Waupaca, Waushara, and Wood Counties as disaster areas due to damages caused by severe storms and flooding occurring on May 19, 2004, and continuing.

In addition, applications for economic injury loans from small businesses located in the contiguous counties of Barron, Buffalo, Dunn, Kewaunee, Langlade, Lincoln, Manitowoc, Menominee, Oconto, Pepin, Price, and Rusk in the State of Wisconsin; Boone, Jo Daviess, Stephenson, and Winnebago Counties in the State of Illinois; Allamakee, Clayton, and Dubuque Counties in the State of Iowa; and Houston and Winona Counties in the State of Minnesota may be filed until the specified date at the previously designated location. All other counties contiguous to the above named primary counties have previously been declared. The number assigned to this disaster for economic injury is 9ZK600 for Iowa; and 9ZK700 for Minnesota.

All other information remains the same, i.e., the deadline for filing applications for physical damage is August 18, 2004, and for economic injury the deadline is March 21, 2005.

(Catalog of Federal Domestic Assistance Program Nos. 59002 and 59008)
Dated: July 7, 2004.
Herbert L. Mitchell,
Associate Administrator for Disaster Assistance.

[FR Doc. 04-15871 Filed 7-13-04; 8:45 am]

BILLING CODE 8025-01-P